INTERNATIONAL TRADE COMMISSION

[Investigation No. 337-TA-875]

Certain Radio Frequency Identification (RFID) Products and Components Thereof; Commission Determination Not To Review an Initial Determination Terminating Investigation Based on a Settlement Agreement; Termination of the Investigation

AGENCY: U.S. International Trade Commission.

ACTION: Notice.

SUMMARY: Notice is hereby given that the U.S. International Trade Commission has determined not to review an initial determination (“ID”) (Order No. 8) of the presiding administrative law judge (“ALJ”) terminating the investigation based on a settlement agreement.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation under section 337 of the Tariff Act of 1930, 19 U.S.C. 1337, on March 29, 2013, based on a complaint filed by Neology, Inc. of Poway, California (“Neology”). The complaint, as supplemented, alleges a violation of section 337 by reason of infringement of certain claims of U.S. Patent Nos. 7,081,819; 7,671,746; and 6,690,264. 78 FR 19311 (Mar. 29, 2013). The respondents are Federal Signal Corporation of Oakbrook, Illinois; Federal Signal Technologies, LLC of Irvine, California (now known as FS Sub, LLC); Sirit Corp. of Irvine, California (now known as Federal Signal of Texas Corp.); and 3M Company of St. Paul, Minnesota (collectively, “Respondents.”) Id.

On June 17, 2013, complainant Neology and Respondents filed a joint motion to terminate this investigation in its entirety based on a settlement agreement and requested the procedural schedule in this investigation be stayed. On June 18, 2013, the Commission's investigative attorney filed a response supporting the motion.

On June 19, 2013, the ALJ issued an ID (Order No. 8) granting the motion to terminate (and denying the request to stay the investigation as moot). The ALJ found that termination of this investigation did not impose any undue burdens on the public health and welfare, competitive conditions in the United States economy, the production of like or directly competitive articles in the United States, or United States consumers. No party petitioned for review. The Commission has determined not to review the ID. The investigation has been terminated.

The authority for the Commission's determination is contained in section 337 of the Tariff Act of 1930, as amended (19 U.S.C. 1337), and in sections 210.42—210.46 of the Commission's Rules of Practice and Procedure (19 CFR 210.42-210.46).

By order of the Commission.
Issued: July 16, 2013.
Lisa R. Barton,
Acting Secretary to the Commission.

[FR Doc. 2013-17455 Filed 7-19-13; 8:45 am]

BILLING CODE 7020-02-P